DEPARTMENT OF ENERGY

Federal Energy Regulatory Commission

[Docket No. RP97-255-007]

TransColorado Gas Transmission Company; Notice of Tariff Filing

June 5, 2000.

Take notice that on May 31, 2000, pursuant to 18 CFR 154.7 and 154.203, and in compliance with the Commission's letter order issued March 20, 1997, in Docket No. RP97-255-000, TransColorado Gas Transmission Company tenders for filing and acceptance, to be effective May 26, 2000, Seventh Revised Sheet No. 21. Third Revised Sheet No. 22 and Second Revised Sheet No. 23 to Original Volume No. 1 of its FERC Gas Tariff (TransColorado's tariff).

TransColorado states that the tendered tariff sheets revise TransColorado's Tariff to implement new negotiated-rate transportation service agreements between TransColorado and Western Gas Resources, Inc., Enron North America, Inn., Enserco Energy, Inc. and Barrett Resources Corporation. TransColorado requests waiver of 18 CFR 154.207 so that the tendered tariff sheets may become effective May 26, 2000.

TransColorado states that a copy of this filing has been served upon all parties to this proceeding, TransColorado's customers, the Colorado Public Utilities Commission and New Mexico Public Utilities Commission.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-14557 Filed 6-8-00; 8:45 am]

BILLING CODE 6717-01-M